DEPARTMENT OF ENERGY

Notice of Funding Opportunity for Consent-Based Siting Program

AGENCY: Office of Spent Fuel and Waste Disposition, Office of Nuclear Energy, Department of Energy.

ACTION: Funding opportunity announcement.

SUMMARY: On September 20, 2022, the Department of Energy (DOE or the Department) issued a $16 million funding opportunity announcement (FOA) to support community engagement with DOE's consent-based siting activities and foster the development of innovative community ideas and feedback related to the potential role that one or more federal consolidated interim storage facilities for commercial spent nuclear fuel may have in the community. To view the FOA, go to https://www.grants.gov and search for “DE-FOA-0002575.”

DATES: Questions about the FOA must be received by December 4, 2022. FOA applications must be received by 8 p.m., EST, December 19, 2022.

ADDRESSES: All applications must be emailed to the DOE Contracts Specialist at consent-based-siting-project@id.doe.gov. Applicants must obtain a Unique Entity ID (UEI) number. Applicants must first be registered with the (System for Award Management) SAM website: https://www.sam.gov. All SAM registrants will be assigned a UEI and can view the number on the SAM website. Applications shall be prepared in accordance with the detailed instructions in the FOA. To learn more about the FOA, including application requirements, please go to https://www.grants.gov and search for “DE-FOA-0002575.”

FOR FURTHER INFORMATION CONTACT: Dr. Tran Le, U.S. Department of Energy, Office of Nuclear Energy, NE-82, 1000 Independence Avenue SW, Washington, DC 20585-0121. Telephone: (301) 903-3301. Email: consentbasedsiting@hq.doe.gov.

Questions about the FOA must be submitted by December 4, 2022, to the DOE Contracts Specialist at consent-based-siting-project@id.doe.gov. For non-FOA related questions about DOE's consent-based siting activities, please send your inquiry via email to consentbasedsiting@hq.doe.gov or by phone at (301) 903-3301.

SUPPLEMENTARY INFORMATION: Issuance of this FOA is an important step toward building understanding between interested communities, organizations, and DOE about consent-based siting. While DOE is not soliciting volunteer sites to host consolidated interim storage facilities as part of this funding opportunity, the Department hopes to encourage engagement, open dialogue, and building capacity among interested stakeholders and communities about the consent-based siting process. In later phases, DOE will engage with communities that express interest in potentially hosting one or more facilities.

Who should apply?: This FOA invites proposals from communities and organizations located within the continental United States interested in learning more about consent-based siting. Eligible awardees include, but are not limited to: higher-education institutions (colleges, universities, and other institutions of higher learning); Tribal, State, and local governments (municipalities, towns, cities, and counties); Community foundations; and Non-governmental organizations (trade associations, 501(c)(3) organizations, and other public groups). Federally funded research and development centers are not eligible to apply for funding. More detailed information on eligibility is provided in the FOA.

Public Information Webinar: DOE hosted an informational webinar about this FOA on October 3, 2022, to discuss the scope and answer questions about the application process. The webinar was recorded and is available at https://www.energy.gov/ne/consent-based-siting.

Background

Management of the nation's spent nuclear fuel and high-level radioactive waste is the US DOE's responsibility. This includes finding sites to store and dispose of the Nation's spent nuclear fuel. DOE is committed to a consent-based approach to siting and an integrated waste management system that enables broad participation and centers equity and environmental justice. In the Consolidated Appropriations Act, 2021, and Consolidated Appropriations Act, 2022, Congress appropriated funds to the Department for Federal interim storage activities using a consent-based approach. Interim storage is an important component of an integrated waste management system and will enable near-term consolidation and temporary storage of spent nuclear fuel until a disposal capability is identified. A Federal interim storage capability will enable removal of spent nuclear fuel from reactor sites, provide useful research opportunities, and build trust and confidence with stakeholders and the public by demonstrating a consent-based approach to facility siting.

In December 2021, DOE issued a request for information on “Using a Consent-Based Siting Process to Identify Federal Interim Storage Facilities” (86 FR 68244). The 225 submissions received by the DOE (available at https://www.energy.gov/ne/consent-based-siting) included comments from Tribal, State, and local governments; Non-governmental organizations; members of academia, industry; other stakeholders and individual commenters. This consent-based siting FOA is responsive to public feedback on the need to provide resources for interested communities to learn more about consent-based siting and spent nuclear fuel management. Specifically, the FOA seeks to advance mutual learning between stakeholders, communities, and DOE and to foster open discussions about consent-based siting, spent nuclear fuel management, and the role one or more federal consolidated interim storage facilities could have in interested communities. For more information on DOE's consent-based siting activities, please go to https://www.energy.gov/ne/consent-based-siting.

Confidential Business Information: Pursuant to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email, if feasible. DOE will make its own determination about the confidential status of the information and treat it according to its determination.

Signing Authority

This document of the Department of Energy was signed on October 21, 2022, by Dr. Kathryn Huff, Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 24, 2022.
Treena V. Garrett,
Federal Register Liaison Officer, U.S. Department of Energy.

[FR Doc. 2022-23382 Filed 10-26-22; 8:45 am]

BILLING CODE 6450-01-P